DEPARTMENT OF ENERGY

Federal Energy Regulatory Commission

[Docket No. CP09-437-000]

Columbia Gas Transmission, LLC; Notice of Request Under Blanket Authorization

July 2, 2009.

Take notice that on June 19, 2009, Columbia Gas Transmission, LLC (Columbia), 5151 San Felipe, Suite 2500, Houston, Texas 77056, filed in Docket No. CP09-437-000, an application pursuant to sections 157.205, 157.208(b) and 157.216(b) of the Commission's Regulations under the Natural Gas Act (NGA) as amended, to construct, replace, relocate, and abandon certain natural gas facilities at the Cobb compressor station system near Clendenin, Kanawha County, West Virginia, under Columbia's blanket certificate issued in Docket No. CP83-76-000,¹ all as more fully set forth in the application which is on file with the Commission and open to the public for inspection.

¹ 22 FERC ¶ 62,029 (1983).

Columbia proposes to construct and operate one 4,500 horsepower compressor unit at Columbia's Cobb compressor station. Columbia states that it would construct and operate approximately 0.7 miles of 16-inch diameter pipeline and appurtenances which would replace approximately 0.68 miles of 10-inch and 16-inch diameter pipeline in three segments on Columbia's Lines N and S, both in Kanawha County. Columbia also states that it would make minor modifications to its existing receipt point from Caraline Energy and construct an additional new receipt point for Caraline Energy. Columbia further states that the proposed new facilities and modifications would cost an estimated $16,100,000 to construct.

Any questions concerning this application may be directed to Fredric J. George, Senior Counsel, Columbia Gas Transmission, LLC, P.O. Box 1273, Charleston, West Virginia 25325-1273 or via telephone at (304) 357-2359 or by facsimile (304) 357-3206.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to section 7 of the NGA.

Kimberly D. Bose,
Secretary.

[FR Doc. E9-16443 Filed 7-10-09; 8:45 am]

BILLING CODE 6717-01-P